DEPARTMENT OF ENERGY

Federal Energy Regulatory Commission

[Docket No. ER99-1727-002, et al.]

CinCap VI, LLC, et al.; Electric Rate and Corporate Regulation Filings

June 30, 2000.

Take notice that the following filings have been made with the Commission:

1. CinCap VI, LLC

[Docket No. ER99-1727-002]

Take notice that on June 27, 2000, Sunbury Holdings, LLC (Sunbury), on behalf of CinCap VI, LLC (CinCap), tendered for filing a notice of change in status under CinCap's market-based rate authority to reflect Sunbury's acquisition of CinCap from Cinergy Capital & Trading, Inc.

Comment date: July 18, 2000, in accordance with Standard Paragraph E at the end of this notice.

2. PJM Interconnection, L.L.C.

[Docket No. ER00-2683-001]

Take notice that on June 27, 2000, PJM Interconnection, L.L.C. (PJM), tendered for filing an amendment to its filing of service agreements in this docket, adding the required designations.

PJM states that it served a copy of its filing upon all parties to the service agreements and each of the state electric regulatory commissions within the PJM Control Area.

Comment date: July 18, 2000, in accordance with Standard Paragraph E at the end of this notice.

3. PJM Interconnection, L.L.C.

[Docket No. ER00-2709-001]

Take notice that on June 27, 2000, PJM Interconnection, L.L.C. (PJM), tendered for filing an amendment to its filing of the interconnection service agreement between PJM and Commonwealth Chesapeake Company, L.L.C. (Commonwealth) in this docket, adding the required designation.

PJM states that it served a copy of its filing upon Commonwealth, Delmarva Power & Light Company, and the Virginia State Corporation Commission.

Comment date: July 18, 2000, in accordance with Standard Paragraph E at the end of this notice.

4. PJM Interconnection, L.L.C.

[Docket No. ER00-2906-001]

Take notice that on June 27, 2000, PJM Interconnection, L.L.C. (PJM), tendered for filing an amendment to its filing of an interconnection service agreement between PJM and Reliant Energy Services, Inc. (Reliant) in this docket, adding the required designation.

PJM states that it served a copy of its filing upon Reliant, the Maryland Public Service Commission, the New Jersey Board of Public Utilities, and the Pennsylvania Public Service Commission.

Comment date: July 18, 2000, in accordance with Standard Paragraph E at the end of this notice.

5. PJM Interconnection, L.L.C.

[Docket No. ER00-2936-001]

Take notice that on June 27, 2000, PJM Interconnection, L.L.C. (PJM), tendered for filing an amendment to its filing of service agreements in this docket, adding the required designations.

PJM states that it served a copy of its filing The Legacy Energy Group, LLC and each of the state electric regulatory commissions within the PJM control area.

Comment date: July 18, 2000, in accordance with Standard Paragraph E at the end of this notice.

6. Southern Company Services, Inc.

[Docket No. ER00-2943-000]

Take notice that on June 23, 2000, Southern Company Services, Inc., as agent for Alabama Power Company, Georgia Power Company, Gulf Power Company, Mississippi Power Company, and Savannah Electric and Power Company (Southern Companies) tendered for filing the Generator Backup Service Agreement between Mobile Energy Services Company, L.L.C. (MESC) and Southern Companies (the Service Agreement) under Southern Companies' Generator Backup Service Tariff (FERC Electric Tariff, Original Volume No. 9). The Service Agreement supplies MESC with unscheduled capacity and energy in connection with sales from its electric generating facility as a replacement for unintentional differences between the facility's actual metered generation and its scheduled generation. The Service Agreement is dated as of June 16, 2000, and shall terminate upon twelve (12) months prior written notice of either party.

Comment date: July 14, 2000, in accordance with Standard Paragraph E at the end of this notice.

7. MidAmerican Energy Company

[Docket No. ER00-2944-000]

Take notice that on June 27, 2000, MidAmerican Energy Company (MidAmerican), 666 Grand Avenue, Des Moines, Iowa 50309, tendered for filing with the Commission a Second Amendment to First Amended and Restated Interchange Agreement (Second Amendment), dated May 30, 2000, entered into by MidAmerican and the City of Geneseo, Illinois, pursuant to MidAmerican's Open Access Transmission Tariff.

MidAmerican requests an effective date of June 28, 2000, for the Second Amendment, and seeks a waiver of the Commission's notice requirement. MidAmerican has served a copy of the filing on the City of Geneseo, Illinois, the Iowa Utilities Board, the Illinois Commerce Commission and the South Dakota Public Utilities Commission.

Comment date: July 18, 2000, in accordance with Standard Paragraph E at the end of this notice.

8. CinCap VI, LLC.

[Docket No. ER00-2956-000]

Take notice that on June 27, 2000, CinCap VI, LLC (CinCap VI), tendered for filing pursuant to Section 205 of the Federal Power Act a long-term Power Sale Agreement (PSA) (Original Service Agreement No. 1) with Cinergy Capital & Trading, Inc. (CCT), and a Notice of Cancellation of the same PSA. CCT consents to the cancellation of the PSA.

A Copy of this filing has been served upon CCT.

CinCap VI requests that its filing of the PSA be made effective as of May 1, 1999, and the cancellation of the PSA be made effective as of July 31, 2000, or the date of that CCT's ownership interest in CinCap VI is transferred to Sunbury Holdings, LLC.

Comment date: July 18, 2000, in accordance with Standard Paragraph E at the end of this notice.

9. PJM Interconnection, L.L.C.

[Docket No. ER00-2957-000]

Take notice that on June 27, 2000, PJM Interconnection, L.L.C. (PJM), tendered for filing signature pages to the Reliability Assurance Agreement among Load Serving Entities in the PJM Control Area (RAA) for Essential.com, Inc. (Essential.com), and an amended Schedule 17 listing the parties to the RAA.

PJM states that it served a copy of its filing on all parties to the RAA, including Essential.com, and each of the state electric regulatory commissions within the PJM Control Area.

Comment date: July 18, 2000, in accordance with Standard Paragraph E at the end of this notice.

10. Ameren Services Company

[Docket No. ER00-2958-000]

Take notice that on June 27, 2000, Ameren Services Company (ASC), the transmission provider, tendered for filing Service Agreements for Long-Term Firm Point-to-Point Transmission Services between ASC and Dynegy Power Marketing, Inc. (the parties). ASC asserts that the purpose of the Agreements is to permit ASC to provide transmission service to the parties pursuant to Ameren's Open Access Transmission Tariff filed in Docket No. ER 96-677-004.

Comment date: July 18, 2000, in accordance with Standard Paragraph E at the end of this notice.

11. Commonwealth Edison Company

[Docket No. ER00-2961-000]

Take notice that on June 27, 2000, Commonwealth Edison Company (ComEd) tendered for filing a Letter Agreement with Rocky Road Power, LLC (Rocky Road). In this Letter Agreement Rocky Road requests that ComEd file an unexecuted Interconnection Agreement between ComEd and Rocky Road (Interconnection Agreement) and agrees to be bound by all terms and conditions of the Interconnection Agreement as such terms may subsequently be modified by the Commission or by an arbitrator's decision pursuant to arbitration under ComEd's Open Access Transmission Tariff (OATT).

Copies of the filing were served on Rocky Road and the Illinois Commerce Commission.

Comment date: July 18, 2000, in accordance with Standard Paragraph E at the end of this notice.

12. West Georgia Generating Company L.P.

[Docket No. ER00-2962-000]

Take notice that on June 27, 2000, West Georgia Generating Company (West Georgia), an Exempt Wholesale Generator that owns and operates a 640 MW electric generation plant in Thomaston, Georgia, tendered for filing a Negotiated Contract for the Purchase of Firm Capacity and Energy between West Georgia Generating Company L.P. and Gulf Power Company.

West Georgia requests that the Agreement be permitted to become effective June 1, 2000.

Comment date: July 18, 2000, in accordance with Standard Paragraph E at the end of this notice.

13. Deseret Generation & Transmission Co-operative, Inc.

[Docket No. ER00-2963-000]

Take notice that on June 27, 2000, Deseret Generation & Transmission Co-operative, Inc. (Deseret), tendered for filing a long-term Service Agreement between Deseret and Constellation Power Source, Inc. Deseret requests that the Commission accept this filing as a service agreement under the Company's Market-Based Rate Tariff, designated Service Agreement No. 5 to FERC Electric Tariff, Original Volume No. 3.

Deseret requests an effective date of June 1, 2000.

Comment date: July 18, 2000, in accordance with Standard Paragraph E at the end of this notice.

14. West Georgia Generating Company L.P.

[Docket No. ER00-2964-000]

Take notice that on June 27, 2000, West Georgia Generating Company (West Georgia), an Exempt Wholesale Generator that owns and operates a 640 MW electric generation plant in Thomaston, Georgia, tendered for filing a Power Purchase Agreement between West Georgia and Oglethorpe Power Corporation.

West Georgia requests that the Agreement be permitted to become effective June 6, 2000.

Comment date: July 18, 2000, in accordance with Standard Paragraph E at the end of this notice.

15. West Georgia Generating Company L.P.

[Docket No. ER00-2965-000]

Take notice that on June 27, 2000, West Georgia Generating Company (West Georgia), as successor-in-interest to Cataula Generating Company, L.P., an Exempt Wholesale Generator that owns and operates a 640 MW electric generation plant in Thomaston, Georgia, tendered for filing a Negotiated Contract for the Purchase of Firm Capacity and Energy between Cataula Generating Company, L.P. and Georgia Power Company.

West Georgia requests that the Agreement be permitted to become effective June 1, 2000.

Comment date: July 18, 2000, in accordance with Standard Paragraph E at the end of this notice.

16. West Georgia Generating Company L.P.

[Docket No. ER00-2966-000]

Take notice that on June 27, 2000, West Georgia Generating Company (West Georgia), an Exempt Wholesale Generator that owns and operates a 640 MW electric generation plant in Thomaston, Georgia, tendered for filing a Power Purchase Agreement between West Georgia and Municipal Electric Authority of Georgia.

West Georgia requests that the Agreement be permitted to become effective June 1, 2000.

Comment date: July 18, 2000, in accordance with Standard Paragraph E at the end of this notice.

17. Minnesota Power, Inc.

[Docket No. ER00-2967-000]

Take notice that on June 26, 2000, Minnesota Power, Inc., tendered for filing a notice that the open access transmission tariff of Minnesota Power, Inc. is modified, effective May 1, 2000, to incorporate the Mid-Continent Area Power Pool's Line Loading Relief procedures.

Comment date: July 17, 2000, in accordance with Standard Paragraph E at the end of this notice.

18. Indeck-Olean Limited Partnership

[Docket No. ER00-2968-000]

Take notice that on June 27, 2000, Indeck-Olean Limited Partnership submitted for filing, pursuant to Section 205 of the Federal Power Act, and Part 35 of the Commission's Regulations, its short-term Transaction Agreement Confirmation with Niagara Mohawk Energy Marketing, Inc.

Comment date: July 18, 2000, in accordance with Standard Paragraph E at the end of this notice.

19. Enron Corp.

[Docket No. ER00-2970-000]

Take notice that on June 26, 2000, Enron Corp. (Enron), tendered for filing notification that Enron is withdrawing from the Southwest Regional Transmission Association effective June 30, 2000.

Comment date: July 17, 2000, in accordance with Standard Paragraph E at the end of this notice.

20. NorthWestern Public Service Company

[Docket No. ER00-2982-000]

Taken that on June 26, 2000, NorthWestern Public Service Company, a division of NorthWestern Corporation tendered for filing in compliance with the Commission's May 26, 2000, Commission Order in Docket No. ER00-2317-000, notice that the open access transmission tariff of NorthWestern Public Service Company is modified, effective May 1, 2000, to incorporate the Mid-Continent Area Power Pool's Line Loading Relief (LLR) procedures.

Comment date: July 17, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-17211 Filed 7-6-00; 8:45 am]

BILLING CODE 6717-01-U